DEPARTMENT OF TRANSPORTATION

Federal Railroad Administration

[Docket No. FRA-2017-0002-N-1]

Proposed Renewal of Agency Information Collection Activities; Comment Request

AGENCY: Federal Railroad Administration (FRA), Department of Transportation (DOT).

ACTION: Notice and request for comments.

SUMMARY: Under the Paperwork Reduction Act of 1995 (PRA) and its implementing regulations, FRA seeks approval of proposed information collection activities. Before submitting these information collection requests (ICR) to the Office of Management and Budget (OMB) for approval, FRA is soliciting public comment on specific aspects of the activities, which are identified below.

DATES: Comments must be received no later than May 15, 2017.

ADDRESSES: Submit written comments on any of the following information collection activities by mail to either: Mr. Robert Brogan, Information Collection Clearance Officer, Office of Railroad Safety, Regulatory Safety Analysis Division, RRS-21, Federal Railroad Administration, 1200 New Jersey Ave. SE., Mail Stop 17, Washington, DC 20590, or Ms. Kim Toone, Information Collection Clearance Officer, Office of Information Technology, RAD-20, Federal Railroad Administration, 1200 New Jersey Ave. SE., Mail Stop 35, Washington, DC 20590. Commenters requesting FRA to acknowledge receipt of their respective comments must include a self-addressed stamped postcard stating, “Comments on OMB control number 2130-XXXX” (the relevant OMB control number for each ICR is listed below), and should also include the title of the collection. Alternatively, comments may be faxed to (202) 493-6216 or (202) 493-6497, or emailed to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Safety Analysis Division, RRS-21, Federal Railroad Administration, 1200 New Jersey Ave. SE., Mail Stop 17, Washington, DC 20590 (telephone: (202) 493-6292) or Ms. Kimberly Toone, Information Collection Clearance Officer, Office of Information Technology, RAD-20, Federal Railroad Administration, 1200 New Jersey Ave. SE., Mail Stop 35, Washington, DC 20590 (telephone: (202) 493-6132). These telephone numbers are not toll-free.

SUPPLEMENTARY INFORMATION: The PRA, 44 U.S.C. 3501-3520, and its implementing regulations, 5 CFR part 1320, require Federal agencies to provide 60-days' notice to the public to allow comment on information collection activities before seeking OMB approval of the activities. 44 U.S.C. 3506(c)(2)(A); 5 CFR 1320.8(d)(1), 1320.10(e)(1), 1320.12(a). Specifically, FRA invites interested parties to comment on the following summary of information collection activities regarding: (1) Whether the information collection activities are necessary for FRA to properly execute its functions, including whether the activities will have practical utility; (2) the accuracy of FRA's estimates of the burden of the information collection activities, including the validity of the methodology and assumptions used to determine the estimates; (3) how FRA can enhance the quality, utility, and clarity of the information being collected; and (4) how FRA can minimize the burden of information collection activities on the public by automated, electronic, mechanical, or other technological collection techniques and other forms of information technology (e.g., permitting electronic submission of responses). See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) ensure it organizes information collection requirements in a “user-friendly” format to improve the use of such information; and (3) accurately assess the resources expended to retrieve and produce information requested. See 44 U.S.C. 3501.

Below is a brief summary of currently approved information collection activities FRA will submit for renewed clearance by OMB as required under the PRA:

Title: Passenger Train Emergency Preparedness.

OMB Control Number: 2130-0545.

Abstract: Under 49 CFR part 239, Passenger Train Emergency Preparedness, FRA requires railroads to meet minimum Federal standards for the preparation, adoption, and implementation of emergency preparedness plans connected with the operation of passenger trains, including freight railroads hosting passenger rail service operations. To help ensure compliance with the regulation, FRA requires railroads to conduct operational tests of their personnel responsible for implementing the emergency preparedness plans. Requirements formerly in § 239.107 related to doors have been moved to § 238.112. Requirements formerly in § 239.107 related to windows have been moved to § 238.307. See 78 FR 71785, Nov. 29, 2013.

Form Number(s): N/A.

Affected Public: Businesses.

Respondent Universe: 45 Railroads.

Frequency of Submission: On occasion.

Reporting Burden:

CFR section | Respondent universe (railroads) | Total annual responses | Average time per response | Total annual burden hours
239.13—waivers | 45 railroads | 1 waiver petition | 20 hours | 20
239.101/201/203—emergency preparedness plan: amended plans | 45 railroads | 45 amended plans | 31.33 hours | 1,410
—subsequent years: amended emergency preparedness plans | 45 railroads | 9 amended plans | 31.33 hours | 282
—non-substantive changes to emergency preparedness plan | 45 railroads | 4 amended plans | 1 hour | 4
—emergency preparedness plans for new/start-up railroads | 2 new railroads | 2 new plans | 80 hours | 160
—initial training of railroad control center and emergency response communications center personnel on emergency preparedness plan (EPP) provisions | 45 railroads | 540 initially trained employees | 8 hours | 4,320
—periodic EPP training of same groups of employees | 45 railroads | 54 periodically trained employees | 4 hours | 216
—initial EPP training of new railroad employees and contractor/contracted employees | 45 railroads | 135 trained new employees | 8 hours | 1,080
239.101(a)(1)(ii)—RR designation of employees responsible for maintaining emergency phone numbers for use in contacting outside emergency responders and appropriate RR officials that a passenger emergency has occurred | 45 railroads | 45 designations | 5 minutes | 4
—commuter/inter city passenger RRs gathering/keeping emergency phone numbers | 45 railroads | 2 lists/updated records | 1 hour | 2
239.101(a)(3)—coordinating applicable portions of emergency preparedness plan between each railroad hosting passenger service and each railroad that provides or operates such service | 45 railroads | 1 coordinated plan | 16 hours | 16
239.101(a)(5)—Updating emergency responder liaison information and conducting emergency simulation | 45 railroads | 45 updated plans | 40 hours | 1,800
239.101(a)(7)—RR dissemination of information regarding emergency procedures/instructions | 2 new railroads | 1,300 cards/2 programs/2 safety messages + 2 programs + 2 safety messages | 5 minutes/16 hours/48 hours/8 hours/24 hours | 300
239.105—Debrief and critique sessions | 45 railroads | 79 debrief/critique sessions | 27 hours | 2,133
239.301(a)—RR operational tests/inspection of on-board, control center, & emergency response center personnel | 45 railroads | 25,000 operational tests/inspections | 15 minutes | 6,250
—(b) and (c) maintenance and retention of operational tests/inspection records | 45 railroads | 25,000 records | 2 minutes | 833
—(d) RR retention of 1 copy of operational testing & inspection program | 45 railroads | 90 program copies/records | 3 minutes | 5
—(e) RR six-month review of tests/inspections and adjustments to program of operational tests/inspections | 45 railroads | 90 periodic reviews/analyses | 2 hours | 180
—(f) RR annual summary of tests/inspections & record of each summary | 45 railroads | 45 annual summaries + 30 annual summary hard copies | 5 minutes + 1 min | 5

Total Estimated Annual Responses: 69,670.

Total Estimated Annual Burden: 21,470 hours.

Type of Request: Regular Review of a Currently Approved Information Collection.

Title: Locomotive Cab Sanitation Standards.

OMB Control Number: 2130-0552.

Abstract: FRA's locomotive cab sanitation standards, 49 CFR 229.137 and 229.139, prescribe minimum standards for locomotive sanitation facilities. FRA uses this collection of information to promote rail safety and the health of railroad workers by ensuring all locomotive crew members have access to functioning and hygienic toilet/sanitary facilities on an as needed basis. FRA also uses this collection of information to ensure railroads timely repair defective locomotive sanitary facilities.

Form Number(s): N/A.

Affected Public: Businesses.

Frequency of Submission: One-time.

Respondent Universe: 744 railroads.

Reporting Burden:

CFR section | Respondent universe | Total annual responses | Average time per response | Total annual burden hours
229.137(d)—Defective locomotive toilet facility—Tagging | 744 railroads | 11,700 tags/notices | 90 seconds | 293
229.137(e) Defective but sanitary locomotive toilet facility—Tagging | 744 railroads | 7,956 tags/notices | 90 seconds | 199
229.139(d) Switching or transfer service—defective locomotive toilet facility—Notation on daily inspection report | 744 railroads | 93,600 notations | 30 seconds | 780

Total Estimated Responses: 113,256.

Total Estimated Annual Burden: 1,272 hours.

Type of Request: Regular Review of a Currently Approved Information Collection.

Title: Locomotive Crashworthiness.

OMB Control Number: 2130-0564.

Abstract: FRA's Locomotive Crashworthiness Design Requirements (49 CFR part 229, subpart D) prescribe minimum crashworthiness standards for locomotives. These crashworthiness standards are intended to help protect locomotive cab occupants in the event of a collision or other accident involving a locomotive. FRA uses the collection of information to ensure railroads use locomotives that meet the prescribed minimum performance standards and design load requirements for newly manufactured and re-manufactured locomotives.

Form Number(s): N/A.

Affected Public: Businesses/Public/Interested Parties.

Frequency of Submission: On occasion; One-time.

Respondent Universe: 725 railroads/4 Locomotive Manufacturers.

Reporting Burden:

CFR section | Respondent universe | Total annual responses | Average time per response | Total annual burden hours
229.207(b)—Petition for FRA approval of new locomotive crashworthiness design | 725 railroads/4 locomotive manufacturers | 2 petitions | 1,050 hours | 2,100
—(c) Petition for FRA approval of substantive changes to FRA-approved locomotive crashworthiness design standard | 725 railroads/4 locomotive manufacturers | 1 petition | 1,050 hours | 1,050
—(d) Petition for FRA approval of non-substantive changes to existing FRA approved locomotive crashworthiness design standard | 725 railroads/4 locomotive manufacturers | 1 petition | 400 hours | 400
229.209(b)—Petition for FRA approval of alternative locomotive crashworthiness design | 725 railroads/4 locomotive manufacturers | 1 petition | 2,550 hours | 2,550
229.211—(b)(2) Processing of petition—comments to FRA on petitions | 725 railroads/4 locomotive manufacturers | 5 comments | 16 hours | 80
—(b)(3) Additional information obtained from public at FRA hearings | 725 railroads/4 locomotive manufacturers/public/other interested parties | 2 hearings (8 comments per hearing @3 hours each) | 24 hours | 48
229.213(a) Locomotive manufacturing information: retention by railroads | 725 railroads | 1,000 records/stickers/badge plates | 6 minutes | 100
239.215—(a) Manufacturer retention of original locomotive designs | 4 locomotive manufacturers | 24 locomotive records | 8 hours | 192
—(b) Owner/lessee retention of records regarding repair or modification to locomotive crashworthiness features | 725 railroads/locomotive lessees | 6 locomotive crashworthiness modification/repair records | 4 hours | 24
—(c) Inspection of records required in 239.215(a)&(b) from custodian upon FRA request | 725 railroads/4 locomotive manufacturers | 10 records | 2 minutes | 33

Total Estimated Responses: 1,052.

Total Estimated Annual Burden: 6,544 hours.

Type of Request: Regular Review of a Currently Approved Information Collection.

Title: Critical Incident Stress Plans.

OMB Control Number: 2130-0602.

Abstract: FRA issued its Critical Incident Stress Plans Final Rule (49 CFR part 272), on March 25, 2014. See 79 FR 16218. Part 272 requires Class I, intercity passenger, and commuter railroads to develop, and submit to FRA for approval, critical incident stress plans that provide appropriate support services be offered to their employees who are affected by a critical incident as defined in 49 CFR 272.9. FRA uses the information collected to ensure the minimum standards of Part 272 are met.

Form Number(s): N/A.

Affected Public: Businesses/Rail Labor Unions.

Frequency of Submission: One-time.

Respondent Universe: 34 railroads.

Reporting Burden:

CFR section | Respondent universe | Total annual responses | Average time per response | Total annual burden hours
272.103—(a) Railroad submission of updated/modified existing critical incident stress plan (CISP) to FRA for approval | 34 railroads | 34 updated/modified plans | 16 hours | 544
—(b) RR CISP copy to 5 labor organizations | 34 railroads | 170 plan copies | 5 minutes | 14
—(c)(1) Rail labor organization comment to FRA on CISP submission | 5 employee labor organizations | 65 comments | 3 hours | 195
—(2)(1) Rail labor affirmative statement to FRA that comment copy has been served on railroad | 5 employee labor organizations | 65 certifications | 15 minutes | 16
(e) Copy to RR employees of updated/modified CISP | 34 railroads | 169,500 copies | 5 minutes | 14,125
(f) RR copy to FRA inspector upon request of CISP | 34 railroads | 136 plan copies | 5 minutes | 11
272.105—Requirement to file CISP electronically | 34 railroads | 34 CISP electronic submissions | 5 minutes | 3

Total Estimated Responses: 170,004.

Total Estimated Annual Burden: 14,908 hours.

Type of Request: Regular Review of a Currently Approved Information Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Sarah L. Inderbitzin,
Acting Chief Counsel.

[FR Doc. 2017-05046 Filed 3-13-17; 8:45 am]

BILLING CODE 4910-06-P